DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) allow the proposed information collection project: “Medical Expenditure Panel Survey Household Component and Medical Provider Component (MEPS-HC and MEPS-MPC)—2004 and 2005”. In accordance with the Paperwork Reduction Act of 1995, Public Law 104-13 (44 U.S.C. 3506(c)(2)(A)), AHRQ invites the public to comment on this proposed information collection.

This proposed information collection was previously published in the Federal Register on October 16, 2003 and allowed 60 days for public comment. No public comments were received. The purpose of this notice is to allow an additional 30 days for public comment.

DATES: Comments on this notice must be received by January 16, 2004.

ADDRESSES: Written comments should be submitted to: Allison Eydt, Human Resources and Housing Branch, Office of Information and Regulatory Affairs, OMB, New Executive Office Building, Room 10235, Washington, DC 20503.

FOR FURTHER INFORMATION CONTACT: Cynthia D. McMichael, AHRQ, Reports Clearance Officer, (301) 427-1651.

SUPPLEMENTARY INFORMATION:

Proposed Project

“Medical Expenditure Panel Survey Household Component and Medical Provider Component (MEPS-HC and MPC)—2004 and 2005”.

The AHRQ intends to conduct an annual panel survey of U.S. households and medical providers to collect information on a variety of measures related to health status, health insurance coverage, health care use and expenditures, and sources of payment for health services. This collection project consists of two parts: the MEPS Household Component (HC) and the MEPS Medical Provider component (MPC).

Each panel of the MEPS-HC consists of a nationally representative sample of U.S. households with a data collection period covering 2½ years.

This time frame allows for the collection of annual data from the MEPS sample that covers their health care experiences over two consecutive calendar years. The first panel of MEPS began in 1996 and a new panel has been initiated annually thereafter. The MEPS-HC is jointly sponsored by the AHRQ and the National Center for Health Statistics (NCHS).

The MEPS-HC will be conducted using a sample of households selected from households which responded to the previous year's National Health Interview Survey (NHIS) sponsored by NCHS. The NHIS is a household survey which collects health data from approximately 50,000 households and 110,000 individuals. The NHIS is used as the sampling frame for the MEPS and several other surveys as part of efforts by the Department of Health and Human Services (DHHS) to integrate survey data collection activities.

Data to be collected from each household include detailed information on demographics, health conditions, current health status, utilization of health care providers, charges and payments for health care services, quality of care received, medications, employment and health insurance.

The purpose of the MEPS-MPC is to supplement the information provided by household respondents in the MEPS-HC about the use of medical services in the United States based on a nationally representative sample. The MEPS-MPC will be conducted with the permission of members of the households surveyed in the MEPS-HC. The AHRQ contractor will contact the medical providers of the HC Survey respondents to determine the actual dates of service, the diagnoses, the services provided, the amount that was charged, the amount that was paid and the sources of payment. Thus, the MPC is derived from or is based upon the survey, (MEPS-HC). The MPC confirms and/or improves the quality of the core survey data.

Data from household respondents in the MEPS Household Component for calendar year 2004, will be collected, beginning in 2004, and continuing into the year 2005, data for calendar year 2005 will be collected, beginning in 2005, and continuing into the year 2006.

Data from medical providers linked to household respondents in the MEPS Household Component for calendar year 2004, will be collected, beginning in 2005, and continuing into the year 2006, provider data for calendar year 2005 will be collected, beginning in 2006, and continuing into the year 2007.

Data Confidentiality Provisions

MEPS data confidentiality is protected under the AHRQ and NCHS Confidentiality statutes, section 308(d) and section 924(c) of the Public Health Service Act (42 U.S.C. 242m(d) and 42 U.S.C. 299c-(c), respectively).

In accordance with SHRQ and NCHS confidentiality statutes, statistical and non-identifying data will be made available through publications, articles in major journals as well as public use data files. The statistical and analytic data are intended to be used for purposes such as:

• Generating national estimates of individual and family health care use and expenditures, private and public health insurance coverage, and the availability, costs and scope of private health insurance benefits among Americans;

• Examining the effects of changes in how chronic care and disability are managed and finances;

• Evaluating the growing impact of managed care and of enrollment in different types of managed care plans; and,

• Examining access to and costs of health care for common diseases and conditions, health care quality, prescription drug use, and other health issues.

Statisticians and researchers will use these data to make important generalizations about the health care of civilian non-institutionalized population of the United States, as well as to conduct research in which the household is the unit of analysis.

Methods of Collection

Data from the MEPS-HC will be collected using a combination of modes. For example, the AHRQ intends to introduce study participants to the survey through advance mailings. The first contact will provide the household with information regarding the importance and uses of the information obtained. The AHRQ will then conduct five (in-person) interviews with each household to obtain health care use and expense data for 2 calendar years. Data will be collected using a computer-assisted personal interviewing method (CAPI). In certain cases, AHRQ will conduct interviews over the telephone, if necessary respondents may be asked to respond to 1 or more short self-administered questionnaires over the course of the survey.

The medical provider survey will be conducted predominantly by telephone, but may include self-administered mail surveys, if requested by the respondent.

Estimated Annual Respondent Burden Per Year for the MEPS HC: Each MEPS participated is asked to complete 5 interviews over two and one half years. Each interview averages 1.8 hours in length. Total burden is estimated in the following chart:

MEPS Household Component Estimated Burden for 2004 and 2005
Survey period | Number of completes | Burden per complete (hours) | Total burden (hours)
Jan-Jul '04 | 22,037 | 1.8 | 39,667
Aug-Dec '04 | 14,746 | 1.8 | 26,543
Jan-Jul '05 | 22,418 | 1.8 | 40,352
Aug-Dec '05 | 15,003 | 1.8 | 27,005
Jan-Jul '06 | 14,838 | 1.8 | 26,708
Total |  |  | 160,275

Estimated Annual Respondent Burden per year for the MEPS MPC: The MPC for Calendar Year 2004 and 2005 estimated annual hour burden is as follows:

Type of provider | Number of respondents | Average number of patients/provider | Number of patient/provider pairs | Average number of events/patient | Average burden/event (in minutes) | Total hours of burden
MPC 2004:
Hospital Office-based | 5,502 | 2.2 | 12,105 | 3.2 | 5 | 3,227
Doctor | 23,077 | 1.3 | 30,000 | 3.5 | 5 | 8,750
Separately Billing Doctor | 17,143 | 1.4 | 24,000 | 1.3 | 5 | 2,600
Home Health | 545 | 1.1 | 600 | 5.8 | 5 | 290
Pharmacy | 8,077 | 2.6 | 21,000 | 10.3 | 3 | 10,815
Total | 54,344 |  | 87,705 |  |  | 25,682
MPC 2005:
Hospital Office-based | 5,310 | 2.2 | 11,681 | 3.2 | 5 | 3,115
Doctor | 22,269 | 1.3 | 28,950 | 3.5 | 5 | 8,444
Separately Billing Doctor | 16,543 | 1.4 | 23,160 | 1.3 | 5 | 2,509
Home Health | 526 | 1.1 | 579 | 5.8 | 5 | 280
Pharmacy | 7,794 | 2.6 | 20,265 | 10.3 | 3 | 10,436
Total | 52,442 |  | 84,635 |  |  | 24,784

Request for Comments

In accordance with the above cited legislation, comments on the AHRQ information collection are requested with regard to any of the following: (a) Whether the proposed collection of information is necessary for the proper performance of functions of AHRQ, including whether the information will have practical utility; (b) the accuracy of the AHRQ's estimate of burden (including hours and cost) of the proposed collection of information; (c) ways to enhance the quality, utility and clarity of the information to be collected; and (d) ways to minimize the burden of the collection of information upon the respondents, including the use of automated collection techniques or other forms of information technology.

Comments submitted in response to this notice will be summarized and included in the request for OMB approval of the proposed information collection. All comments will become a matter of public record.

Dated: November 26, 2003.
Carolyn M. Clancy,
Director.

[FR Doc. 03-31197 Filed 12-16-03; 8:45 am]

BILLING CODE 4160-90-M